DEPARTMENT OF THE INTERIOR

Bureau of Land Management

[BLM_OR_FRN_MO4500176898]

Establishment and Call for Nominations for the San Juan Islands National Monument Advisory Committee

AGENCY: Bureau of Land Management, Interior.

ACTION: Notice.

SUMMARY: The Bureau of Land Management (BLM) is publishing this notice in accordance with the Federal Land Policy and Management Act (FLPMA) and the Federal Advisory Committee Act (FACA). The BLM gives notice that the Secretary of the Interior is establishing the San Juan Islands National Monument Advisory Committee (MAC) and seeking nominations for individuals to be considered as MAC members.

DATES: Comments regarding the establishment of this MAC must be submitted no later than February 28, 2024. Nominations for the MAC must be submitted by March 29, 2024.

ADDRESSES: Nominations for the MAC should be sent to 1103 N Fancher Rd., Spokane Valley, WA 99212; or email tedwards@blm.gov, with a subject line “2024 MAC Nominations.”

FOR FURTHER INFORMATION CONTACT: Travis Edwards, BLM Spokane District Office, email: tedwards@blm.gov, telephone: (509) 361-1297. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The MAC was established under the authority of Presidential Proclamation, “Establishment of the San Juan Islands National Monument” (March 25, 2013), to advise the Secretary of the Interior with respect to the preparation and maintenance of the San Juan Islands National Monument Resource Management Plan (RMP). The approved RMP and Record of Decision Notice of Availability was published in the Federal Register on January 31, 2023. Therefore, the MAC has sunset under its original authority. The Secretary of the Interior determined that the MAC remains an important part of ongoing management of the San Juan Islands National Monument (Monument), and it is being established as a discretionary committee under agency authority in accordance with section 309 of FLPMA, as amended (43 U.S.C. 1739). The BLM is also subject to standards and procedures for the creation, operation, and termination of BLM resource advisory councils at 43 CFR 1784.

The MAC will include thirteen representative members to be appointed by the Secretary of the Interior as follows:

(a) One member representing archeological, cultural, and heritage interests;

(b) One member representing wildlife and ecological interests;

(c) One member representing the interests of a nonprofit organization whose mission is conservation and/or management of natural resources, land, or water;

(d) One member representing natural resource management or natural sciences interests;

(e) One member representing recreation and tourism interests;

(f) One member representing local youth, education, and interpretation interests;

(g) Two members that have significant cultural or historic connections to, and knowledge about, the landscape, archeological sites, or cultural sites connected to the Monument;

(h) One member who holds State, county, or local elected office;

(i) One member representing conservation and/or management of natural resources, land, or water interests;

(j) One member representing local interests that is a resident of Lopez Island; and

(h) One member of the public-at-large.

Members will be appointed to the MAC to serve three-year staggered terms.

Nominating Potential Members: Nominations should include a resume providing an adequate description of the nominee's qualifications, including information that would enable the Department of the Interior to make an informed decision regarding the membership requirements of the MAC and permit the Department of the Interior to contact a potential member. Nominees are strongly encouraged to include supporting letters from employers, associations, professional organizations, and/or other organizations that indicate support by a meaningful constituency for the nominee. Please indicate any BLM permits, leases, or licenses that you hold personally or are held by your employer.

Members of the MAC serve without compensation. However, while away from their homes or regular places of business, members engaged in MAC business may be allowed travel expenses, including per diem in lieu of subsistence, as authorized by 5 U.S.C. 5703, in the same manner as persons employed intermittently in Federal Government service.

The MAC will meet approximately two to four times annually, and at such other times as designated by the Designated Federal Officer. Simultaneous with this notice, the BLM will issue a press releases providing additional information for submitting nominations.

Public Disclosure of Comments: Before including your address, phone number, email address, or other personally identifiable information (PII) in your comment, you should be aware that your entire comment—including your PII—may be made publicly available at any time. While you may ask us in your comment to withhold your PII from public review, we cannot guarantee that we will be able to do so.

Certification Statement: I hereby certify that the San Juan Islands National Monument Advisory Committee, is necessary, in the public interest, and is in connection with the performance of duties imposed on the Department of the Interior by the Bureau of Land Management Federal Land Policy and Management Act (43 U.S.C. 1739), and other statutes relating to the administration of the Bureau of Land Management.

Authority: 43 CFR 1784.4-1.

Deb Haaland,
Secretary of the Interior.

[FR Doc. 2024-02939 Filed 2-12-24; 8:45 am]

BILLING CODE 4331-24-M